DEPARTMENT OF ENERGY

Office of Fossil Energy; Orders Granting and Amending Authority To Import and Export Natural Gas, Including Liquefied Natural Gas

AGENCY: Office of Fossil Energy, DOE.

ACTION: Notice of orders.

SUMMARY: The Office of Fossil Energy (FE) of the Department of Energy gives notice that during June 2000, it issued Orders granting and amending authority to import and export natural gas, including liquefied natural gas. These Orders are summarized in the attached appendix and may be found on the FE web site at http://www.fe.doe.gov, or on the electronic bulletin board at (202) 586-7853. They are also available for inspection and copying in the Office of Natural Gas & Petroleum Import & Export Activities, Docket Room 3E-033, Forrestal Building, 1000 Independence Avenue, S.W., Washington, D.C. 20585, (202) 586-9478. The docket room is open between the hours of 8:00 a.m. and 4:30 p.m., Monday through Friday, except Federal holidays.

Issued in Washington, D.C., on July 13, 2000.
John W. Glynn,
Manager, Natural Gas Regulation, Office of Natural Gas & Petroleum, Import & Export Activities, Office of Fossil Energy.

Appendix—Orders Granting and Amending Import/Export Authorizations

Order No. | Date issued | Importer/Exporter FE Docket No. | Import volume | Export volume | Comments
1600 | 06/06/00 | IGI Resources, Inc., 00-39-NG | 350 Bcf |  | Import from Canada beginning on August 1, 2000, and extending through July 31, 2002.
1601 | 06/08/00 | Coral Energy Resources, L.P., 00-38-NG | 730 Bcf | 730 Bcf | Import combined total, including LNG, from Canada and Mexico, and export combined total, including LNG, to Canada and Mexico, beginning on July 1, 2000, and extending through June 30, 2002.
1602 | 06/13/00 | WGR Canada, Inc., 00-40-NG | 73 Bcf | 73 Bcf | Import and export from and to Canada beginning on July 14, 2000, and extending through July 13, 2002.
1603 | 06/13/00 | Duke Energy LNG Marketing and Management Company, 00-41-LNG | 700 Bcf |  | Import LNG from various international sources to existing facilities in the U.S. and its territories, over a two-year term beginning on June 13, 2000, and extending through June 12, 2002.
1604 | 06/14/00 | Fortuna (U.S.) Inc., 00-37-NG | 75 Bcf |  | Import and export a combined total from and to Canada, over a two-year term beginning on the date of first delivery.
1151-B | 06/14/00 | Hess Energy Inc. (Successor to Statoil Energy Services, Inc.), 96-02-NG |  |  | Transfer of long-term import authority.
1440-A | 06/14/00 | Hess Energy Inc. (Successor to Statoil Energy Services, Inc.), 98-95-NG |  |  | Transfer of blanket import and export authority.
1152-B | 06/14/00 | Hess Energy Inc. (Successor to Statoil Energy Services, Inc.), 96-03-NG |  |  | Transfer of long-term import authority.
1569-A | 06/16/00 | Alliance Pipeline L.P., 00-08-NG | Increase of 41.2 Bcf |  | Increase in volumes to blanket import authority.
261-F | 06/20/00 | Phillips Alaska Natural Gas Corporation and Marathon Oil Company: 88-22-LNG, 96-99-LNG |  |  | Amendment to price formula April 1, 1998, through March 1, 2009.
1605 | 06/21/00 | Premstar Energy Canada Ltd., 00-42-NG | 400 Bcf |  | Import and export a combined total from and to Canada beginning on July 1, 2000, and extending through June 30, 2002.
1606 | 06/23/00 | St. Lawrence Gas Company, Inc., 00-43-NG | 16.3 Bcf |  | Import from Canada beginning on July 26, 2000, and extending through July 25, 2002.
1581-A | 06/28/00 | Anadarko Energy Services Company, 00-20-NG | 100 Bcf |  | Amendment to include import of LNG from various international sources to existing facilities in the U.S. and its territories through April 30, 2002.
1607 | 06/30/00 | New York State Electric & Gas Corporation, 00-45-NG | (1) 50 Bcf |  | Import and export a combined total from and to Canada beginning on July 1, 2000, and extending through June 30, 2002.

[FR Doc. 00-18230 Filed 7-18-00; 8:45 am]

BILLING CODE 6450-01-P